DEPARTMENT OF THE TREASURY

Internal Revenue Service

26 CFR Part 301

[TD 9333]

RIN 1545-BG64

Application of Section 6404(g) of the Internal Revenue Code Suspension Provisions; Correction

AGENCY: Internal Revenue Service (IRS), Treasury.

ACTION: Correction to temporary regulations.

SUMMARY: This document contains corrections to temporary regulations (TD 9333) that were published in the Federal Register on Thursday, June 21, 2007 (72 FR 34176) on the suspension of any interest, penalty, addition to tax, or additional amount with respect to listed transactions or undisclosed reportable transactions. The temporary regulations provide guidance to individual taxpayers who have participated in listed transactions or undisclosed reportable transactions.

DATES: The correction is effective July 26, 2007.

FOR FURTHER INFORMATION CONTACT: Stuart Spielman, (202) 622-7950 (not a toll-free number).

SUPPLEMENTARY INFORMATION:

Background

The temporary regulations that are the subject of this correction are under section 6404(g) of the Internal Revenue Code.

Need for Correction

As published, temporary regulations (TD 9333) contain errors that may prove to be misleading and are in need of clarification.

Correction of Publication

Accordingly, the publication of the temporary regulations (TD 9333), which was the subject of FR Doc. E7-12081, is corrected as follows:

1. On page 34176, column 2, in the preamble, under the caption “SUMMARY:”, lines 13 and 14, the language “Opportunity Zone Act of 2005, and the Tax Relief and Health Care Act of 2006.” is corrected to read “Opportunity Zone Act of 2005, the Tax Relief and Health Care Act of 2006, and the Small Business and Work Opportunity Tax Act of 2007.”.

2. On page 34176, column 3, in the preamble, under the paragraph heading “Background”, line 8 from the bottom of the paragraph, the language “Public Law 110-28 (121 Stat. 112, 200),” is corrected to read “Public Law 110-28 (121 Stat. 190, 200),”.

LaNita Van Dyke,
Chief, Publications and Regulations Branch, Legal Processing Division, Associate Chief Counsel (Procedure and Administration).

[FR Doc. E7-14398 Filed 7-25-07; 8:45 am]

BILLING CODE 4830-01-P